DEPARTMENT OF THE INTERIOR

Geological Survey

[GX14LR000F60100]

Agency Information Collection Activities: Request for Comments

AGENCY: U.S. Geological Survey (USGS), Interior.

ACTION: Notice of an extension and revision of a currently approved information collection (1028-0068).

SUMMARY: We (the U.S. Geological Survey) will ask the Office of Management and Budget (OMB) to approve the information collection (IC) described below. This collection consists of 15 forms. As part of the requested extension, we will make several revisions to the number and nature of the associated collection instruments. These revisions include: (1) Deleting USGS Form 9-4092-A and USGS Form 9-4106-M; (2) changing USGS Form 9-4047-A from monthly and annual to an annual-only reporting form; (3) modifying USGS Form 9-4044-A and USGS Form 9-4045-M; and (4) modifying the title of USGS Form 9-4076-A. As required by the Paperwork Reduction Act (PRA) of 1995, and as part of our continuing efforts to reduce paperwork and respondent burden, we invite the general public and other Federal agencies to take this opportunity to comment on this IC. This collection is scheduled to expire on July 31, 2014.

DATES: To ensure that your comments are considered, OMB must receive them on or before August 25, 2014.

ADDRESSES: Please submit your written comments on this information collection directly to the Office of Management and Budget, Office of Information and Regulatory Affairs, Attention: Desk Officer for the Department of the Interior, at OIRA_SUBMISSION@omb.eop.gov (email); or (202) 395-5806 (fax). Please also forward a copy of your comments to the Information Collection Clearance Officer, U.S. Geological Survey, 807 National Center, 12201 Sunrise Valley Drive, Reston, VA 20192 (mail); 703-648-7195 (fax); or gs-info_collections@usgs.gov (email). Reference “Information Collection 1028-0068, Ferrous Metals Surveys” in all correspondence.

FOR FURTHER INFORMATION CONTACT: Elizabeth S. Sangine at 703-648-7720 (telephone); escottsangine@usgs.gov (email); or by mail at U.S. Geological Survey, 988 National Center, 12201 Sunrise Valley Drive, Reston, VA 20192. You may also find information about this Information Collection Request (ICR) at www.reginfo.gov.

SUPPLEMENTARY INFORMATION:

I. Abstract

Respondents to these forms supply the USGS with domestic consumption data for 13 ores, concentrates, metals, and ferroalloys, some of which are considered strategic and critical. These data and derived information will be published as chapters in Minerals Yearbooks, monthly Mineral Industry Surveys, annual Mineral Commodity Summaries, and special publications, for use by Government agencies, industry education programs, and the general public.

II. Data

OMB Control Number: 1028-0068.

Form Number: Various (15 forms).

Title: Ferrous Metals Surveys.

Type of Request: Revision of a currently approved collection.

Affected Public: Business or other-for-profit institutions: U.S. nonfuel minerals consumers of ferrous and related metals.

Respondent Obligation: None. Participation is voluntary.

Frequency of Collection: Monthly and Annually.

Estimated Number of Annual Responses: 2,667.

Annual Burden Hours: 1,319 hours, based on an estimated average of 10 minutes to 1 hour per response.

Estimated Reporting and Recordkeeping “Non-Hour Cost” Burden: There are no “non-hour cost” burdens associated with this collection of information.

Public Disclosure Statement: The PRA (44 U.S.C. 3501, et seq.) provides that an agency may not conduct or sponsor a collection of information unless it displays a currently valid OMB control number and current expiration date.

III. Request for Comments

On April 9, 2014, a 60-day Federal Register notice (79 FR 19639) was published announcing this information collection. Public comments were solicited for 60 days ending June 9, 2014. We received one public comment in response to that notice from the Department of Commerce Bureau of Economic Analysis (BEA) supporting the continued collection of these data which are an important data source for key components of BEA's economic statistics. We again invite comments as to: (a) Whether the proposed collection of information is necessary for the agency to perform its duties, including whether the information is useful; (b) the accuracy of the agency's estimate of the burden time to the proposed collection of information; (c) how to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that it will be done.

Michael J. Magyar,
Associate Director, National Minerals Information Center, U.S. Geological Survey.

[FR Doc. 2014-17519 Filed 7-24-14; 8:45 am]

BILLING CODE 4311-AM-P